DEPARTMENT OF VETERANS AFFAIRS

Capital Asset Realignment for Enhanced Services (CARES) Commission; Notice of Meeting

The Department of Veterans Affairs (VA) gives notice under Public Law 92-463 (Federal Advisory Committee Act) that the Capital Asset Realignment for Enhanced Services (CARES) Commission will meet on Tuesday, Wednesday and Thursday, March 11, 12 and 13, 2003, in the first floor conference room, 1575 Eye Street, NW., Washington, DC. On March 11, the meeting will be from 8:30 a.m. until 2:30 p.m. On March 12 and 13, the meeting will be from 8:30 a.m. until 5 p.m. The meeting is open to the public.

The purpose of the Commission is to conduct an external assessment of VA's capital asset needs and to assure that stakeholder and beneficiary concerns are fully addressed. The Commission will consider recommendations prepared by VA's Under Secretary for Health, veterans service organizations, individual veterans, Congress, medical school affiliates, VA employees, local government entities, community groups and others. Following its assessment, the Commission will make specific recommendations to the Secretary of Veterans Affairs regarding the realignment and allocation of capital assets necessary to meet the demands for veterans health care services over the next 20 years.

This is the second meeting of the Commission. On March 11, the principal agenda topic is a detailed briefing and discussion of the CARES Demand Model. On March 12, the Commission will receive detailed briefings and discuss CARES Market Areas, Gap Analysis, Special Disability Populations and Stakeholder Communication. On March 13, the Commission will receive a detailed briefing and discuss CARES Planning Initiatives.

No time will be allocated at this meeting for receiving oral presentations from the public. However, interested persons may either attend or file statements with the Commission. Written statements may be filed either before the meeting or within 10 days after the meeting and addressed to: Department of Veterans Affairs, CARES Commission (OOCARES), 810 Vermont Avenue, NW., Washington, DC 20420. Any member of the public wishing additional information should contact Mr. Richard E. Larson at (202) 501-2000.

Dated: February 24, 2003.
By Direction of the Secretary:
E. Philip Riggin,
Committee Management Officer.

[FR Doc. 03-4906 Filed 2-28-03; 8:45 am]

BILLING CODE 8320-01-M